DEPARTMENT OF HOMELAND SECURITY

Office of the Secretary

[Docket Number: DHS-2006-0016]

Critical Infrastructure Partnership Advisory Council

AGENCY: Preparedness Directorate, Office of Infrastructure Protection, Department of Homeland Security.

ACTION: Committee Management: Notice of CIPAC Committee Membership.

SUMMARY: The Department of Homeland Security announced the establishment of the Critical Infrastructure Partnership Advisory Council (CIPAC) by Notice published in the Federal Register on March 24, 2006 (“First CIPAC Notice”). That Notice identified the purpose of the committee as well as its membership. This Notice identifies the institutions currently serving as CIPAC members. This Notice also identifies the government entities that comprise the Government Coordinating Council for each sector.

FOR FURTHER INFORMATION CONTACT: Brett Lambo, Infrastructure Programs Office, Infrastructure Partnerships Division, Office of Infrastructure Protection, Preparedness Directorate, United States Department of Homeland Security, Washington, DC 20528, telephone (703) 235-5311 or via e-mail at brett.lambo@dhs.gov. Responsible DHS Official: Nancy J. Wong, Director, Infrastructure Programs Office, Infrastructure Partnerships Division, Office of Infrastructure Protection, Preparedness Directorate, United States Department of Homeland Security, Washington, DC 20528, telephone (703) 235-5349.

SUPPLEMENTARY INFORMATION: On March 24, 2006, the Secretary of the Department of Homeland Security (DHS) published notice in the Federal Register (71 FR 14930) announcing the establishment of the Critical Infrastructure Partnership Advisory Council (CIPAC). That first CIPAC Notice identified the CIPAC's intended purpose as facilitating interaction between representatives of government and the community of critical infrastructure and key resources (CI/KR) owners and operators in each critical sector. As set forth in that notice, that interaction will include the following activities: “planning; coordination; security program implementation; operational activities related to critical infrastructure protection security measures, including incident response, recovery, and reconstitution from events both man-made and naturally occurring; and the sharing of information about threats, vulnerabilities, protective measures, best practices, and lessons learned.”

CIPAC is designed to include as many of the owners and/or operators and the owner and/or operator representative trade associations deemed by each sector's Sector Coordinating Council (SCC) as necessary participants in the activities described in the March 24, 2006 Notice. That first Notice provided a list of the CIPAC membership from each sector as of that date. That first Notice also stated that the CIPAC Executive Secretariat would work with each SCC's leadership and with the Sector Specific Federal Agency for each sector to compile a list of the CIPAC SCC members from each sector. It further stated that the Department would publish a subsequent Notice identifying these additional members of the CIPAC.

Consistent with that statement, this second Notice announces the current membership. This notice also contains the government entities that comprise the Government Coordinating Council for each sector. CIPAC membership identification is an ongoing process. Some sectors are currently in the process of organizing themselves and will provide additional names to DHS as they develop. Upon review to ensure that the entities provided meet the definition of CIPAC membership contemplated by the Department (i.e., that the institutions identified are, “owners and/or operators or trade associations representing the interests of owners and/or operators that own and invest in infrastructure assets, in the systems and processes to secure them, and that are held responsible by the public for their operations and the response and their recovery when their infrastructures or key resources are disrupted”), the institutions accepted as members of the CIPAC will be added to the CIPAC membership roster published on the CIPAC Web site (http://www.dhs.gov/cipac). That CIPAC Web site will maintain an updated list of all Sector industry/institutional CIPAC membership, all government entities involved in CIPAC, and the membership of all formal task force and working group entities established and acting within CIPAC. Quarterly, the Department will publish in the Federal Register, instructions how the public can obtain the most current roster of CIPAC membership as well as the membership of all formal task force and working group entities within CIPAC.

Dated: June 20, 2006.
Nancy J. Wong,
Director, Infrastructure Programs Office, Infrastructure Partnerships Division, United States Department of Homeland Security.

Appendix A—CI/KR Institutions Critical Infrastructure Partnership Advisory Council (CIPAC)

CI/KR Institutions

Chemical Sector

Bureau of Alcohol Tobacco and Firearms & Explosives

United States Department of Commerce

United States Department of Defense

United States Department of Homeland Security

United States Department of Justice

United States Department of Transportation

United States Environmental Protection Agency

American Chemistry Council

America Forest & Paper Association

Chemical Producers & Distributors Association

Chlorine Chemistry Council

Compressed Gas Association

Crop Life America

DuPont

Institute of Makers of Explosives

International Institute of Ammonia Refrigeration

National Association of Chemical Distributors

National Paint & Coatings Association

National Petrochemical and Refiners Association

Rhodia

Synthetic Organic Chemical Manufacturers Association

The Adhesive and Sealant Council

The Chlorine Institute

The Fertilizer Institute

The Society of the Plastics Industry, Inc

Commercial Facilities Sector

General Services Administration

National Endowment of the Arts

United States Department of Commerce

United States Department of Education

United States Department of Homeland Security

United States Department of Housing and Urban Development

United States Department of Interior

United States Department of Justice

United States Environmental Protection Agency

Affinia Hospitality

BOMA, International

Dallas Convention Center

Fox Entertainment Group

International Association of Amusement Parks & Attractions

International Association of Assembly Managers

International Association of Fairs and Exhibitions

International Council of Shopping Centers

Major League Baseball

Marriott International

NASCAR, Inc.

National Association of Industrial and Office Properties

National Association of RV Parks and Campgrounds

National Hockey League

National Multi Housing Council

National Retail Federation

NBC Universal

Office of the Commissioner of Baseball

Oneida Gaming Commission

RBC Center

Retail Industry Leaders Association

Related Management Company

Self Storage Association

Stadium Management Association

The Real Estate Roundtable

Tishman Speyer Properties

The Walt Disney Company

Venetian Resort Hotel & Casino

Warner Bros. Studio Facilities

Communications Sector

Federal Communications Commission

General Services Administration

United States Department of Commerce

United States Department of Defense

United States Department of Homeland Security

United States Department of Justice

BellSouth Corporation

Cellular Telecommunications & Internet Association

Cingular

Telecommunications Industry Association

U.S. Telecom Association

Verizon

Dams Sector

Federal Energy Regulatory Commission

State of California, Department of Water Resources

State of New Jersey, Department of Environmental Protection

State of Ohio, Department of Natural Resources

State of Virginia, Department of Conservation and Recreation

State of Washington, Department of Ecology

Tennessee Valley Authority

United States Department of Agriculture

United States Department of Defense

United States Department of Homeland Security

United States Department of Interior

United States Department of Labor

United States Department of State

United States Environmental Protection Agency

Allegheny Energy

Ameren Services Company

American Electric Power

Association of State Dam Safety Officials

AVISTA Utilities

Canadian Dam Association

Chelan County

CMS Energy

Dominion Resources

Duke Energy Corporation

Exelon Corporation

National Hydropower Association

National Mining Association

New York City, Department of Environmental Protection

New York Power Authority

Pacific Gas & Electric Company

PPL Corporation

Xcel Energy Corporation

Scana Corporation

South Carolina Public Service Authority

Southern California Edison

Southern Company Generation

TransCanada

United States Society of Dams

Electricity Sector

Federal Energy Regulatory Commission

National Association of Regulatory Utility Commissioners

National Association of State Energy Officials

United States Department of Agriculture

United States Department of Defense

United States Department of Energy

United States Department of Homeland Security

United States Department of Interior

United States Department of State

United States Department of Transportation

United States Environmental Protection Agency

Arizona Public Service Company

Exelon Corporation

Independent Electricity System Operator, Ontario Canada

North American Electric Reliability Council (NERC)

National Rural Electric Cooperative Association

New York Independent System Operator

Reliability First Corporation

Southern Company Services, Inc.

Emergency Services Sector

United States Department of Homeland Security

United States Department of Transportation

United States Department of Justice

American Red Cross

International Association of Emergency Managers

International Association of Fire Chiefs

National Association of State EMS Officials

National Emergency Management Association

National Sheriff's Association

Financial Services Sector

Commodity Futures Trading Commission

Conference of State Bank Supervisors

Farm Credit Administration

Federal Deposit Insurance Corporation

Federal Housing Finance Board

Federal Reserve Bank of New York

Federal Reserve Board

National Association of Insurance Commissioners

National Association of State Credit Union Supervisors

National Credit Union Administration

North American Securities Administration Association

Office of Federal Housing Enterprise Oversight

Office of the Comptroller of the Currency

Office of Thrift Supervision

Securities and Exchange Commission

Securities Investor Protection Corporation

United States Department of the Treasury

America's Community Bankers

American Bankers Association

American Council of Life Insurers

American Insurance Association

BITS/The Financial Services Roundtable

Bank Administration Institute

ChicagoFIRST, LLC

Chicago Mercantile Exchange

CLS Group

Consumer Bankers Association

Credit Union National Association

The Depository Trust & Clearing Corporation (DTCC)

Fannie Mae

Financial Information Forum

Financial Services Technology Consortium

Futures Industry Association

Independent Community Bankers of America

Investment Company Institute

Managed Funds Association

The NASDAQ Stock Market, Inc.

National Association of Federal Credit Unions

National Association of Securities Dealers (NASD)

NACHA—The Electronic Payments Association

New York Board of Trade (NYBOT)

The Clearing House

Securities Industry Association (SIA)

Food and Agriculture Sector

Association of State and Territorial Health Officials

Intertribal Agriculture Council

National Assembly of State Animal Health Officials

National Association of County and City Health Officials

National Association of State Departments of Agriculture

National Science Foundation

United States Department of Agriculture

United States Department of Commerce

United States Department of Defense

United States Health and Human Services

United States Department of Homeland Security

United States Department of the Interior

United States Department of Justice

United States Environmental Protection Agency

Agricultural Retailers Association

American Farm Bureau Federation

CF Industries, Inc.

CropLife America

Food Marketing Institute

Food Processors Association

International Association of Refrigerated Warehouses

International Dairy Foods Association

International Food Service Distributors Association

International In-flight Food Service Association

International Warehouse Logistics Association

McCormick & Company, Inc.

National Association of Convenience Stores

National Cattlemen's Beef Association

National Corn Growers Association

National Milk Producers Federation

National Pork Producers Association

National Restaurant Association

National Retail Federation

National Food Service Security Council

United Fresh Fruit & Vegetable Association

Information Technology Sector

National Association of State Chief Information Officers

United States Department of Commerce

United States Department of Defense

United States Department of Homeland Security

United States Department of Justice

United States Department of State

United States Department of the Treasury

Bell Security Solutions, Inc.

BellSouth Corporation

Center for Internet Security

Cisco Systems, Inc.

Citadel Security Software, Inc.

Computer and Communications Industry Association

Computer Associates International

Computer Sciences Corporation

Computing Technology Industry Association

Cyber Security Industry Alliance

Electronic Industries Alliance

Entrust, Inc.

EWA Information & Infrastructure Technologies, Inc.

IBM Corporation

Information Technology Association of America

Intel Corporation

International Systems Security Engineering Association (ISSEA)

Internet Security Alliance

Internet Security Systems—ISS

Lockheed Martin

McAfee, Inc.

Microsoft Corporation

NTT America

Seagate Technology

Symantec

U.S. Internet Service Provider Association

Unisys Corporation

VeriSign

Verizon

Nuclear Sector

Nuclear Regulatory Commission

United States Department of Defense

United States Department of Energy

United States Department of Homeland Security

United States Department of Justice

United States Environmental Protection Agency

Arizona Public Service Company

Constellation Energy Generation Group

Dominion Energy

Dominion Generation

Entergy Operations

Excelon Generation Company, LLC

General Electric Energy Nuclear Energy

National Institute of Standards and Technology

Nuclear Energy Institute

Southern Nuclear Company

USEC, Inc.

Oil and Gas Sector

Federal Energy Regulatory Commission

National Association of Regulatory Utility Commissioners

National Association of State Energy Officials

United States Department of Agriculture

United States Department of Defense

United States Department of Energy

United States Department of Homeland Security

United States Department of the Interior

United States Department of State

United States Department of Transportation

United States Environmental Protection Agency

American Gas Association

American Petroleum Institute

American Public Gas Association

Anadarko Canada Corp.

Anadarko Petroleum Corporation

Association of Oil Pipe Lines

BP

Canadian Association of Petroleum Producers

Chevron Corporation

ConocoPhillips

Domestic Petroleum Council

Dominion Resources, Inc.

Edison Chouest Offshore, LLC

El Paso Corp.

ExxonMobil

Gas Processors Association

International Association of Drilling Contractors

Interstate Natural Gas Association of America

Independent Petroleum Association of America

Leffler Energy

Marathon Petroleum Company, LLC

National Petrochemical & Refiners Association

National Propane Gas Association

NiSource, Inc.

Newfoundland Ocean Industries Association

Offshore Marine Service Association

Petroleum Marketers Association of America

Rowan Companies, Inc.

Shell Oil Company

Shipley Stores, LLC

U.S. Oil & Gas Association

Valero Energy Corporation

Western States Petroleum Association

Postal and Shipping Sector

United States Department of Defense

United States Department of Health and Human Services

United States Department of Homeland Security

United States Department of Justice

DHL

FedEx

United Parcel Service of America, Inc.

United States Postal Service

Transportation Sector

United States Department of Defense

United States Department of Energy

United States Department of Homeland Security

United States Department of Transportation

American Public Transportation Association

Association of American Railroads

New Jersey Transit

Water Sector Members

Association of State and Interstate Water Pollution Control Administrators

Association of State Drinking Water Administrators

United States Army Corps of Engineers

United States Department of Agriculture

United States Department of Defense

United States Department of Health and Human Services

United States Department of Homeland Security

United States Department of State

United States Department of the Interior

United States Environmental Protection Agency

Alexandria Sanitation Authority

American Water

American Water Works Association

Association of Metropolitan Water Agencies

AWWA Research Foundation

Bean Blossom Patricksburg Water Corporation

Boston Water and Sewer Commission

Breezy Hill Water and Sewer Company

City of Portland Bureau of Environmental Services

Columbus Water Works

Fairfax Water

Greenville Water System

Los Angeles Department of Water and Power

Manchester Water Works

Milwaukee Water Works

National Association of Clean Water Agencies

National Association of Water Companies

National Rural Water Association

New York City Department of Environmental Protection

Pima County Wastewater Management Department

United Water

Water Environment Federation

Water Environment Research Foundation

[FR Doc. E6-10276 Filed 6-29-06; 8:45 am]

BILLING CODE 4410-10-P